DEPARTMENT OF DEFENSE

Department of the Air Force

Notice of Intent To Prepare an Environmental Impact Statement for Proposed Aircraft Conversion at Martinsburg, WV

Pursuant to the National Environmental Policy Act (NEPA) of 1969, as amended (42 United States Code 4321, et seq.), the Council on Environmental Quality (CEQ) Regulations for implementing the procedural provisions of NEPA (40 Code of Federal Regulations (CFR) parts 1500-1508), and Air Force policy and procedures (32 CFR part 989), This announcement provides notice that the Air Force proposes a conversion of C-130 aircraft to C-5 aircraft along with associated actions to meet strategic airlift requirements of the U.S. Air Force and Air National Guard. This action requires a unique mix of facilities and support capabilities associated with the C-5, the largest cargo aircraft in the Department of Defense inventory. The eventual receiving location would maintain and operate an inventory of 10 C-5 aircraft.

The Air National Guard is preparing an EIS to assess potential environmental impacts associated with the proposed conversion from C-130 to C-5 aircraft at the 167th Airlift Wing (167 AW), Martinsburg, WV. The 167th AW action would consist of three primary components: (1) Conversion from C-130 to C-5 aircraft; (2) acquisition of land through lease; from the Eastern West Virginia Airport and (3) construction of both ANG and the Eastern West Virginia Regional Airport facilities on existing and acquired parcels. The EIS will address alternatives to the proposed action, including alternative facilities development scenarios, reduced airfield expansion, and the No Action Alternative.

The ANG will initiate a public scoping process to facilitate identification of the relevant scope of environmental issues to be addressed in the EIS. The public will be invited to participate in scoping meetings and review the Draft EIS. Notification of the meeting locations and time will be made in the local area and will be announced via local news media. Information gathered during the public scoping will be used in the development of the Draft EIS.

For Further Information Contact: ANG/CEVP, Martinsburg EIS, Attention: Lt Col TJ Mitnik, 3500 Fetchet Avenue, Andrews Air Force Base, MD 20762.

Pamela D. Fitzgerald,
Air Force Federal Register Liaison Officer.

[FR Doc. 02-26604 Filed 10-17-02; 8:45 am]

BILLING CODE 5001-05-P